DEPARTMENT OF THE INTERIOR

National Park Service

30 Day Notice of Intention To Request Clearance of Collection of Information; Opportunity for Public Comment

AGENCY: National Park Service, The Department of the Interior.

ACTION: Notice and request for comments.

SUMMARY: Under the provisions of the Paperwork Reduction Act of 1995 (Pub. L. 104-13, 44 U.S.C., Chapter 3507) and 5 CFR part 1320, Reporting and Record keeping Requirements, the National Park Service invites public comments on a submitted request to the Office of Management and Budget (OMB) to approve an extension of a currently approved collection (OMB #1024-1018).

The primary purpose of the Information Collection Request is to nominate properties for listing in the National Register of Historic Places, the official list of the Nation's cultural resources worthy of preservation, which public law requires that the Secretary of the Interior maintain and expand. Properties are listed in the National Register upon nomination by State Historic Preservation Officers and Federal Preservation Officers. Law also requires Federal agencies to request determinations of eligibility for property under their jurisdiction or affected by their programs and projects. The forms provide the historic documentation on which decisions for listing and eligibility are based.

DATES: Public comments will be accepted on or before February 13, 2006.

ADDRESSES: You may submit comments directly to the Desk Officer for the Department of the Interior (OMB #1024-0018), Office of Information and Regulatory Affairs, OMB, by fax at 202/395-6566, or by electronic mail at oira_docket@omb.eop.gov. Please also mail or hand carry a copy of your comments to Beth L. Savage, Managing Editor, National Register of Historic Places, National Park Service, 1849 C Street, NW., #2280, Washington, DC 20240. All comments will be a matter of public record.

SUPPLEMENTARY INFORMATION: Title: 36 CFR parts 60 and 63, National Register of Historic Places Registration Form, Continuation Sheet, Multiple Property Documentation Forms (aka MPS).

Form: NPS 10-900, 10-900-a, 10-900-b.

OMB Control Number: 1024-0018.

Type of Request: Extension of a currently approved collection.

Expiration Date: December 31, 2005.

Description of need: The National Historic Preservation Act requires the Secretary of the Interior to maintain and expand the National Register of Historic Places, and to establish criteria and guidelines for including properties in the National Register. The National Register of Historic Places Registration Form documents properties nominated for listing in the National Register and demonstrates that they meet the criteria established for inclusion. The documentation is used to assist in preserving and protecting the properties and for heritage education and interpretation.

National Register properties must be considered in the planning for Federal or federally assisted projects. National Register listing is required for eligibility for the federal rehabilitation tax incentives. Comments are invited on: (1) The need for information including whether the information has practical utility; (2) the accuracy of the reporting burden estimate; (3) ways to enhance the quality, utility, and clarity of the information to be collected; and (4) ways to minimize the burden of information collection on respondents, including the use of automated collection techniques or other forms of information technology.

Description of respondents: The affected public are State, tribal, and local governments, businesses, non-profit organizations, and individuals. Nominations to the National Register of Historic Places are voluntary.

Estimated annual reporting burden: 52,824 hours, broken down as follows: 196 nominations submitted under existing MPS @ 18 hrs. each = 3,528; 1,186 newly proposed individual nominations @ 36 hrs. each = 42,696; 55 newly proposed MPS @ 120 hrs. each = 6,600.

Estimated average burden hours per response: Depending on which form is used, the average burden hours per response may vary considerably because of many complex factors. In general, to fulfill minimum program requirements describing the nominated property and demonstrating its eligibility under the criteria, the average burden hours range from 18 hours for a nomination proposed under an existing Multiple Property Submission (MPS), to 36 hours for a newly proposed individual nomination, to 120 hours for a newly proposed MPS. Continuation sheets (10-900-a) are used for additional information for both the individual nomination form and the multiple property form, as needed. As such, the calculation of average burden hours per response for the continuation sheets has been included in the average calculations above for the nomination form (10-900) and the multiple property form (10-900-b).

Estimated average number of respondents: 1,513.

Estimated frequency of response: 1,513 annually.

Dated: December 14, 2005.
Leonard E. Stowe,
NPS, Information Collection Clearance Officer.

[FR Doc. 06-275 Filed 1-11-06; 8:45 am]

BILLING CODE 4312-52-M